DEPARTMENT OF COMMERCE

National Oceanic and Atmospheric Administration

RIN 0648-XC566

Fisheries of the South Atlantic; South Atlantic Fishery Management Council; Public Meeting

AGENCY: National Marine Fisheries Service (NMFS), National Oceanic and Atmospheric Administration (NOAA), Commerce.

ACTION: Notice of public meetings.

SUMMARY: The South Atlantic Fishery Management Council (Council) will hold meetings of the King & Spanish Mackerel Advisory Panel (AP) and Snapper Grouper AP in North Charleston, SC.

DATES: The meetings will be held from 9 a.m. on Monday, April 22, 2013 until 12 p.m. on Thursday, April 25, 2013.

ADDRESSES: The meetings will be held at the Hilton Garden Inn, 5265 International Boulevard, North Charleston, SC 29418; telephone: (800) 445-8667 or (843) 308-9330; fax: (843) 308-9331.

Council Address: South Atlantic Fishery Management Council, 4055 Faber Place Drive, Suite 201, N. Charleston, SC 29405.

FOR FURTHER INFORMATION CONTACT: Kim Iverson, Public Information Officer, SAFMC; telephone: (843) 571-4366 or toll free (866) SAFMC-10; fax: (843) 769-4520; email: kim.iverson@safmc.net.

SUPPLEMENTARY INFORMATION: The items of discussion in the individual meeting agendas are as follows:

King & Spanish Mackerel AP Agenda: Monday, April 22, 2013, 9 a.m. Until Tuesday, April 23, 2013, 12 p.m.

1. Discuss and provide recommendations for Mackerel Amendment 19, which addresses bag limit sales of king and Spanish mackerel, reduces inactive king mackerel permits, and addresses income requirements for commercial king and Spanish mackerel permits.

2. Discuss and provide recommendations for Mackerel Amendment 20, which pertains to: changes in Gulf group zones; transit provisions in Florida waters; and allocations for king and Spanish mackerel in North Carolina. The amendment also addresses framework procedure modifications as well as updated Annual Catch Limits (ACLs) for cobia.

3. Discuss and provide recommendations for South Atlantic Framework Actions, which considers: a change in the king mackerel minimum size limit; modifications to transfer-at-sea provisions for the Spanish mackerel gillnet fishery; changes in the king mackerel commercial trip limits; and modifications to the Spanish mackerel quota and trip limit system.

Snapper Grouper AP Agenda: Tuesday, April 23, 2013, 1:30 p.m. Until Thursday, April 25, 2013, 12 p.m.

1. Receive an update on the April, 2013 Scientific and Statistical Committee (SSC) Meeting, including: the application of the Only Reliable Catch Stocks (ORCS) methodology to specify Acceptable Biological Catches (ABCs) for unassessed snapper grouper species included in the Comprehensive ACL Amendment; and the black sea bass stock assessment.

2. Receive an update on both future and completed snapper grouper amendments.

3. Receive presentations on: Vessel Monitoring Systems (VMS); an electronic monitoring (EM) pilot study on snapper grouper bandit vessels; and the Fishery Independent Reef Fish Survey.

4. Receive an overview of Snapper Grouper Amendment 30, pertaining to the consideration of VMS for the commercial snapper grouper fishery. Discuss the amendment and provide recommendations.

5. Receive an overview on Regulatory Amendment 14, which addresses management measures for the following snapper grouper species: greater amberjack; mutton snapper; gray triggerfish; hogfish; black sea bass; vermilion snapper; and gag grouper. Discuss the amendment and provide recommendations.

6. Receive overviews on: regional allocations for black sea bass; and Visioning and Strategic Planning for the snapper grouper complex. Discuss the overviews and provide recommendations.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: March 27, 2013.
Tracey L. Thompson,
Acting Deputy Director, Office of Sustainable Fisheries, National Marine Fisheries Service.

[FR Doc. 2013-07501 Filed 3-29-13; 8:45 am]

BILLING CODE 3510-22-P